DEPARTMENT OF COMMERCE

National Oceanic and Atmospheric Administration

50 CFR Part 660

[Docket No. 230508-0124; RTID 0648-XD191]

Fisheries Off West Coast States; Modification of the West Coast Salmon Fisheries; Inseason Action #18

AGENCY: National Marine Fisheries Service (NMFS), National Oceanic and Atmospheric Administration (NOAA), Commerce.

ACTION: Inseason modification of 2023 management measures.

SUMMARY: NMFS announces one inseason action for the 2023-2024 ocean salmon fishing season. This inseason action modifies the commercial salmon fisheries in the area from the U.S./Canada border to Cape Falcon, Oregon.

DATES: The effective date for this inseason action is set out in this document under the heading “Inseason Action” and the action remains in effect until superseded or modified.

FOR FURTHER INFORMATION CONTACT: Shannon Penna, 562-980-4239, Shannon.Penna@noaa.gov.

SUPPLEMENTARY INFORMATION:

Background

The annual management measures for the 2023 and early 2024 ocean salmon fisheries (88 FR 30235, May 11, 2023) govern the commercial and recreational fisheries in the area from the U.S./Canada border to the U.S./Mexico border, effective from 0001 hours Pacific Daylight Time (PDT), May 16, 2023, until the effective date of the 2024 management measures, as published in the Federal Register. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Chairman of the Pacific Fishery Management Council (Council), and the appropriate State Directors (50 CFR 660.409(b)—Flexible inseason management provisions).

Management of the salmon fisheries is divided into two geographic areas: north of Cape Falcon (NOF) (U.S./Canada border to Cape Falcon, OR), and south of Cape Falcon (SOF) (Cape Falcon, OR, to the U.S./Mexico border). The actions described in this document affect the NOF commercial salmon troll fisheries, as set out under the heading Inseason Action below.

Consultation with the Council Chairperson on this inseason action occurred on July 19, 2023. This consultation included representatives from NMFS, Washington Department of Fish and Wildlife, Oregon Department of Fish and Wildlife, and California Department of Fish and Wildlife. Representatives from the Salmon Advisory Subpanel and Salmon Technical Team were also present.

This inseason action was announced on NMFS' telephone hotline and U.S. Coast Guard radio broadcast on the date of the consultations (50 CFR 660.411(a)(2)).

Inseason Action

Inseason Action #18

Description of the action: Inseason action #18 modifies the NOF ocean salmon troll commercial fishery.

Effective dates: Inseason action #18 takes effect for the following areas and dates, and remains in effect until superseded.

• Effective July 20, 2023, at 12:01 a.m., through Wednesday, July 26, 2023, at 11:59 p.m., in the area between the U.S./Canada border and Cape Falcon, the landing possession limit is decreased from 35 Chinook salmon and 150 adipose marked coho salmon per vessel per landing week to 30 Chinook salmon and 150 adipose marked coho salmon per vessel per landing week (Thursday-Wednesday).

• Effective July 27, 2023, at 12:01 a.m., through August 2, 2023, at 11:59 p.m., in the area between the U.S./Canada border and Cape Falcon, the landing and possession limit is decreased from 30 Chinook salmon and 150 adipose marked coho salmon per vessel per landing week to 20 Chinook salmon and 150 adipose marked coho salmon per vessel per landing week (Thursday-Wednesday).

• Effective August 3, 2023, at 12:01 a.m., the area between the U.S./Canada border and Cape Falcon is closed.

Reason and authorization for the action: Inseason action #18 was necessary to progressively slow the rate of Chinook salmon catch in order to preserve the length of the salmon fishing season by setting lower landing and possession limits. The NMFS West Coast Regional Administrator (RA) determined that this inseason action is necessary to meet management and conservation goals for the 2023-2024 management measures after considering the best available information on the 2023 abundance forecasts for Chinook salmon stocks, landings and effort patterns to date, anticipated fishery effort and projected catch, the timing of the action relative to the length of the season, and the other factors and considerations set forth in 50 CFR 660.409. This inseason action modified quotas and/or fishing seasons under 50 CFR 660.409(b)(1)(i).

All other restrictions and regulations remain in effect as announced for the 2023 ocean salmon fisheries (88 FR 30235, May 11, 2023; 88 FR 44737, July 13, 2023, 88 FR 51250, August 3, 2023; 88 FR 53813, August 9, 2023) except as previously modified by inseason actions.

The states and tribes manage the fisheries in state waters adjacent to the areas of the U.S. exclusive economic zone (3-200 nautical miles; 5.6-370.4 kilometers) off the coasts of the States of Washington, Oregon, and California consistent with these Federal actions. As provided by the inseason notice procedures at 50 CFR 660.411, actual notice of the described regulatory actions was given, prior to the time the actions became effective, by telephone hotline numbers 206-526-6667 and 800-662-9825, and by U.S. Coast Guard Notice to Mariners broadcasts on Channel 16 VHF-FM and 2182 kHz.

Classification

NMFS issues this action pursuant to section 305(d) of the Magnuson-Stevens Fishery Conservation and Management Act (MSA). This action is authorized by 50 CFR 660.409, which was issued pursuant to section 304(b) of the MSA, and is exempt from review under Executive Order 12866.

Pursuant to 5 U.S.C. 553(b)(3)(B), there is good cause to waive prior notice and an opportunity for public comment on this action, as notice and comment would be impracticable and contrary to the public interest. Prior notice and opportunity for public comment on this action was impracticable because NMFS had insufficient time to provide for prior notice and the opportunity for public comment between the time Chinook and coho salmon abundance, catch, and effort information were developed and fisheries impacts were calculated, and the time the fishery modifications had to be implemented in order to ensure that fisheries are managed based on the best scientific information available. As previously noted, actual notice of the regulatory action was provided to fishers through telephone hotlines and radio notifications. These actions comply with the requirements of the annual management measures for ocean salmon fisheries (88 FR 30235, May 11, 2023), the Pacific Salmon Fishery Management Plan (FMP), and regulations implementing the FMP under 50 CFR 660.409 and 660.411.

There is good cause under 5 U.S.C. 553(d)(3) to waive the 30-day delay in effective date, as a delay in effectiveness of this action would allow fishing at levels inconsistent with the goals of the FMP and the current management measures.

Authority: 16 U.S.C. 1801 et seq.

Dated: August 23, 2023.
Jennifer M. Wallace,
Acting Director, Office of Sustainable Fisheries, National Marine Fisheries Service.

[FR Doc. 2023-18512 Filed 8-25-23; 8:45 am]

BILLING CODE 3510-22-P